DEPARTMENT OF JUSTICE

Notice of Lodging of Third Amendment to Consent Decree Under the Clean Air Act

Under 28 U.S.C. 50.7, notice is hereby given that on February 28, 2012, a proposed Third Amendment to the Consent Decree entered in the case of United States, et al. v. ConocoPhillips Company, Civil Action No. H-05-0258, was lodged with the United States District Court for the Southern District of Texas.

Under the original Consent Decree, ConocoPhillips Company (“COPC”) agreed to implement innovative pollution control technologies to reduce emissions of nitrogen oxides, sulfur dioxide, and particulate matter from refinery process units at nine refineries owned and operated by COPC. COPC also agreed to adopt facility-wide enhanced benzene waste monitoring and fugitive emission control programs. Subsequently, the Court entered First and Second Amendments to the Consent Decree and a new owner (WRB Refining) of two of the refineries—the Wood River and Borger Refineries—was added as a defendant. COPC remained a defendant with respect to those two refineries because it continued to operate them.

COPC still is obligated to comply with the Consent Decree as amended. However, under the Third Amendment, COPC will undertake a demonstration project and emissions tests at a recently installed delayed coking unit at its Wood River Refinery in order to enable the parties to establish new limits and controls for the coke drum steam vents and coker quench water tank. COPC also will pay civil penalties of $249,000, $98,500, and $21,000 to resolve alleged Benzene Waste Operations NESHAP (“BWON”) violations at its Borger, Trainer, and Wood River Refineries, respectively. In addition, for the resolution of the BWON claims at its Wood River Refinery, COPC will perform a Supplemental Environmental Project valued at $77,000 to retrofit diesel school buses with pollution controls. Finally, several minor and non-material modifications are included in the Third Amendment.

In the Third Amendment, the United States is joined by all Co-Plaintiffs to the original Consent Decree: the State of Illinois, the State of Louisiana, the State of New Jersey, the Commonwealth of Pennsylvania, and the Northwest Clean Air Agency in the State of Washington.

The Department of Justice will receive for a period of thirty (30) days from the date of this publication comments relating to the Third Amendment. Comments should be addressed to the Assistant Attorney General, Environment and Natural Resources Division, and either mailed to pubcomment-ees.enrd@usdoj.gov or mailed to P.O. Box 7611, U.S. Department of Justice, Washington, DC 20044-7611, and should refer to United States, et al. v. ConocoPhillips Company, D. J. Ref. No. 90-5-2-1-06722/1.

During the public comment period, the Third Amendment may be examined on the following Department of Justice Web site: http://www.usdoj.gov/enrd/Consent_Decrees.html. A copy of the Third Amendment may also be obtained by mail from the Consent Decree Library, P.O. Box 7611, U.S. Department of Justice, Washington, DC 20044-7611, or by faxing or emailing a request to “Consent Decree Copy” (EESCDCopy.ENRD@usdoj.gov), fax number (202) 514-0097; phone confirmation number (202) 514-5271. If requesting a copy from the Consent Decree Library by mail, please enclose a check in the amount of $13.75 (25 cents per page reproduction cost) payable to the U.S. Treasury or, if requesting by email or fax, forward a check in that amount to the Consent Decree Library at the address given above.

Robert D. Brook,
Assistant Chief, Environmental Enforcement Section, Environment and Natural Resources Division.

[FR Doc. 2012-5199 Filed 3-2-12; 8:45 am]

BILLING CODE 4410-15-P